DEPARTMENT OF AGRICULTURE

Forest Service

Stimson Access Project, Idaho Panhandle National Forests, Pend Oreille County, WA

AGENCY: Forest Service, USDA.

ACTION: Notice of intent to prepare an environmental impact statement.

SUMMARY: The USDA Forest Service will prepare an environmental impact statement (EIS) to disclose the potential environmental effects of authorizing an easement across National Forest System lands to private property owned by Stimson Lumber Company. The project is located on the Priest Lake Ranger District, Idaho Panhandle National Forests, Pend Oreille County, Washington.

The proposed action includes issuing an easement for the purpose of road building to access the private inholding. Specific activities would include removal of road right-of-way timber, surfacing of the road, installation of drainage structures, seeding, noxious weed treatment and installation of a barrier to limit access. These management activities will be administered by the Priest Lake Ranger District of the Idaho Panhandle National Forests in Bonner County, Idaho. This EIS will tier to the Idaho Panhandle National Forests Forest Plan (September 1987).

DATES: On February 28, 2001, the Forest Service produced an Environmental Assessment (EA) and provided a 30-day comment period. Instead of providing another comment period following the publication of this notice, we will incorporate the comments we received on the EA into the Draft EIS. There will be a 45-day review and comment period on the Draft EIS prior to the completion of a Final EIS.

ADDRESSES: Submit written comments and suggestions on the proposed management activities or request to be placed on the project mailing list to Stimson Access Project, c/o David Asleson, Priest Lake Ranger District, 32203 Highway 57, Priest River, Idaho 83856.

FOR FURTHER INFORMATION CONTACT: Debbie Butler, Project Team Leader, Priest Lake Ranger District, 32203 Highway 57, Priest River, ID 83856; send e-mail to dabutler@fs.fed.us.

SUPPLEMENTARY INFORMATION: Based on policy established in the Final Rule for the Forest Transportation System (36 CFR part 212), it was determined that an EIS should be prepared.

The project includes approximately 4 acres on National Forest System land. The area is situated totally within Pend Oreille County, Washington, approximately 12 miles northwest of the Priest Lake Ranger District. The legal description for the project is as follows: Sections 8; Township 36 North; Range 45 East and Sections 4; Township 36 North, Range 45 East.

As Deciding Officer, I will decide what action will occur on National Forest lands. I also will decide specific project mitigation measures, as necessary, to achieve Forest Plan objectives and standards for affected resources.

Public participation plays an important role in the environmental analysis process. The initial public participation process for this analysis began April 7, 1998. An environmental assessment was produced in February 2001. The decision to prepare an EIS occurred on April 12, 2001. The mailing list for public scoping will include those individuals who have previously expressed interest in this project as well as those responding to the Idaho Pandhandle National Forests Quarterly Schedule of Proposed Actions. In addition, the public is encouraged to visit with Forest Service officials during the analysis and prior to the decision. The Forest Service will also be seeking information, comments, and assistance from Federal, State, and local agencies and other individuals or organizations that may be interested in or affected by the proposed actions.

Comments from the public and other agencies will be used in preparation of the Draft EIS. Some public concerns have already been expressed through earlier scoping and the following significant issues have been identified: threatened and endangered wildlife habitat, inventoried roadless area values, watershed concerns, and fisheries concerns. This list will be verified, expanded, or modified based on public scoping and interdisciplinary review for this proposal.

The draft environmental impact statement is expected to be filed with the Environmental Protection Agency (EPA) and available for public review June 1, 2001. The final environmental impact statement is expected to be completed in July 2001. The comment period on the draft environmental impact will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental statement stage but that are not raised until after completion of the final environmental statement may be waived or dismissed by the courts. City of Angoon v. Hodel, 803 F 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concern on the proposed action, comments on the draft environmental impact statement should be as specific as possible. It is also helpful if comments refer to specific pages or chapters of the draft statement. Comments may also address the adequacy of the draft environmental impact statement or the merits of the alternatives formulated and discussed in the statement. Reviews may wish to refer to the Council on Environmental Quality Regulations for implementing the procedural provisions of the National Environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (Braille, large print, audiotape, etc.) should contact USDA's TARGET Center ad (202) 720-2600 (voice and TDD).

To file a complaint, write the Secretary of Agriculture, U.S. Department of Agriculture, Washington, DC 20250, or call 1-800-245-6340 (voice) or 202-720-1127 (TDD). USDA is an equal employment opportunity employer.

Dated: April 16, 2001.
Dale N. Bosworth,
Regional Forester, Northern Region.

[FR Doc. 01-10537 Filed 4-27-01; 8:45 am]

BILLING CODE 3410-11-M